DEPARTMENT OF THE INTERIOR

Bureau of Indian Affairs

[234A2100DD/AAKC001030/A0A501010.999900]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We request your comments on the proposed rate adjustments.

DATES: Interested parties may submit comments on the proposed rate adjustments on or before March 20, 2023.

ADDRESSES: All comments on the proposed rate adjustments must be in writing. You may send comments via email to comments@bia.gov. Please reference “Rate Adjustments for Indian Irrigation Projects” in the subject line. Or you may submit comments to the Program Specialist, Division of Water and Power, Office of Trust Services, 2021 4th Avenue North, Billings, Montana 59101.

FOR FURTHER INFORMATION CONTACT: Leslie Underwood, Program Specialist, Division of Water and Power, Office of Trust Services, (406) 657-5985. For details about a particular irrigation project, please use the table in the SUPPLEMENTARY INFORMATION section to contact the BIA regional or local office where the project is located.

SUPPLEMENTARY INFORMATION: The first table in this notice provides contact information for individuals who can give further information about the irrigation projects covered by this notice. The second table provides the proposed rates for calendar year (CY) 2024 for all irrigation projects.

What is the meaning of the key terms used in this notice?

In this notice:

Administrative costs mean all costs we incur to administer our irrigation projects at the local project level and are a cost factor included in calculating your operation and maintenance assessment. Costs incurred at the local project level do not normally include agency, region, or central office costs unless we state otherwise in writing.

Assessable acre means lands designated by us to be served by one of our irrigation projects, for which we collect assessments in order to recover costs for the provision of irrigation service. (See total assessable acres.)

BIA means the Bureau of Indian Affairs.

Bill means our statement to you of the assessment charges and/or fees you owe the United States for administration, operation, maintenance, and/or rehabilitation. The date we mail or hand-deliver your bill will be stated on it.

Costs means the costs we incur for administration, operation, maintenance, and rehabilitation to provide direct support or benefit to an irrigation facility. (See administrative costs, operation costs, maintenance costs, and rehabilitation costs).

Customer means any person or entity to whom or to which we provide irrigation service.

Due date is the date on which your bill is due and payable. This date will be stated on your bill.

I, me, my, you and your mean all persons or entities that are affected by this notice.

Irrigation project means a facility or portion thereof for the delivery, diversion, and storage of irrigation water that we own or have an interest in, including all appurtenant works. The term “irrigation project” is used interchangeably with irrigation facility, irrigation system, and irrigation area.

Irrigation service means the full range of services we provide customers of our irrigation projects. This includes our activities to administer, operate, maintain, and rehabilitate our projects in order to deliver water.

Maintenance costs means costs we incur to maintain and repair our irrigation projects and associated equipment and is a cost factor included in calculating your operation and maintenance assessment.

Operation and maintenance (O&M) assessment means the periodic charge you must pay us to reimburse costs of administering, operating, maintaining, and rehabilitating irrigation projects consistent with this notice and our supporting policies, manuals, and handbooks.

Operation or operating costs means costs we incur to operate our irrigation projects and equipment and is a cost factor included in calculating your O&M assessment.

Past due bill means a bill that has not been paid by the close of business on the 30th day after the due date as stated on the bill. Beginning on the 31st day after the due date, we begin assessing additional charges accruing from the due date.

Rehabilitation costs means costs we incur to restore our irrigation projects or features to original operating condition or to the nearest state which can be achieved using current technology and is a cost factor included in calculating your O&M assessment.

Responsible party means an individual or entity that owns or leases land within the assessable acreage of one of our irrigation projects and is responsible for providing accurate information to our billing office and paying a bill for an annual irrigation rate assessment.

Total assessable acres mean the total acres served by one of our irrigation projects.

Water delivery is an activity that is part of the irrigation service we provide our customers when water is available.

We, us, and our mean the United States Government, the Secretary of the Interior, the BIA, and all who are authorized to represent us in matters covered under this notice.

Does this notice affect me?

This notice affects you if you own or lease land within the assessable acreage of one of our irrigation projects or if you have a carriage agreement with one of our irrigation projects.

Where can I get information on the regulatory and legal citations in this notice?

You can contact the appropriate office(s) for the irrigation project that serves you. Please use the table in the SUPPLEMENTARY INFORMATION section to contact the regional or local office where the project is located.

Why are you publishing this notice?

We are publishing this notice to inform you that we propose to adjust our irrigation assessment rates. This notice is published in accordance with the BIA's regulations governing its operation and maintenance of irrigation projects, found at 25 CFR part 171. This regulation provides for the establishment and publication of the proposed rates for annual irrigation assessments as well as related information about our irrigation projects.

What authorizes you to issue this notice?

Our authority to issue this notice is vested in the Secretary of the Interior by 5 U.S.C. 301 and the Act of August 14, 1914 (38 Stat. 583; 25 U.S.C. 385). The Secretary has in turn delegated this authority to the Assistant Secretary—Indian Affairs under part 209, chapter 8.1A, of the Department of the Interior's Departmental Manual.

When will you put the rate adjustments into effect?

We will put the rate adjustments into effect for CY 2024.

How do you calculate irrigation rates?

We calculate annual irrigation assessment rates in accordance with 25 CFR part 171.500 by estimating the annual costs of operation and maintenance at each of our irrigation projects and then dividing by the total assessable acres for that particular irrigation project. The result of this calculation for each project is stated in the rate table in this notice.

What kinds of expenses do you consider in determining the estimated annual costs of operation and maintenance?

Consistent with 25 CFR part 171.500, these expenses include the following:

(a) Personnel salary and benefits for the project engineer/manager and project employees under the project engineer/manager's management or control;

(b) Materials and supplies;

(c) Vehicle and equipment repairs;

(d) Equipment costs, including lease fees;

(e) Depreciation;

(f) Acquisition costs;

(g) Maintenance of a reserve fund available for contingencies or emergency costs needed for the reliable operation of the irrigation facility infrastructure;

(h) Maintenance of a vehicle and heavy equipment replacement fund;

(i) Systematic rehabilitation and replacement of project facilities;

(j) Contingencies for unknown costs and omitted budget items; and

(k) Other expenses we determine necessary to properly perform the activities and functions characteristic of an irrigation project.

When should I pay my irrigation assessment?

We will mail or hand deliver your bill notifying you (a) the amount you owe to the United States and (b) when such amount is due. If we mail your bill, we will consider it as being delivered no later than five business days after the day we mail it. You should pay your bill by the due date stated on the bill.

What information must I provide for billing purposes?

All responsible parties are required to provide the following information to the billing office associated with the irrigation project where you own or lease land within the project's assessable acreage or to the billing office associated with the irrigation project with which you have a carriage agreement:

(1) The full legal name of the person or entity responsible for paying the bill;

(2) An adequate and correct address for mailing or hand delivering our bill; and

(3) The taxpayer identification number or social security number of the person or entity responsible for paying the bill.

Why are you collecting my taxpayer identification number or social security number?

Public Law 104-134, the Debt Collection Improvement Act of 1996, requires that we collect the taxpayer identification number or social security number before billing a responsible party and as a condition to servicing the account.

What happens if I am a responsible party but I fail to furnish the information required to the billing office responsible for the irrigation project within which I own or lease assessable land or for which I have a carriage agreement?

If you are late paying your bill because of your failure to furnish the required information listed above, you will be assessed interest and penalties as provided below, and your failure to provide the required information will not provide grounds for you to appeal your bill or any penalties assessed.

What can happen if I do not provide the information required for billing purposes?

We can refuse to provide you irrigation service.

If I allow my bill to become past due, could this affect my water delivery?

Yes. 25 CFR 171.545(a) states: “We will not provide you irrigation service until: (1) Your bill is paid; or (2) You make arrangement for payment pursuant to § 171.550 of this part.” If we do not receive your payment before the close of business on the 30th day after the due date stated on your bill, we will send you a past due notice. This past due notice will have additional information concerning your rights. We will consider your past due notice as delivered no later than five business days after the day we mail it. We follow the procedures provided in 31 CFR 901.2, “Demand for Payment,” when demanding payment of your past due bill.

Are there any additional charges if I am late paying my bill?

Yes. We are required to assess interest, penalties, and administrative costs on past due bills in accordance with 31 U.S.C. 3717 and 31 CFR 901.9. The rate of interest is established annually by the Secretary of the United States Treasury (Treasury) and accrues from the date your bill is past due. If your bill becomes more than 90 days past due, you will be assessed a penalty charge of no more than six percent per year, which accrues from the date your bill became past due. Each time we try to collect your past due bill, you will be charged an administrative fee of $12.50 for processing and handling.

What else will happen to my past due bill?

If you do not pay your bill or make payment arrangements to which we agree, we are required to transfer your past due bill to Treasury for further action. Pursuant to 31 CFR 285.12, bills that are 120 days past due will be transferred to Treasury.

Who can I contact for further information?

The contact table below contains the regional and project/agency contacts for our irrigation facilities.

Northwest Region Contacts
Bryan Mercier, Regional Director, Bureau of Indian Affairs, Northwest Regional Office, 911 NE 11th Avenue, Portland, OR 97232-4169. Telephone: (503) 231-6702.
Flathead Indian Irrigation Project | Larry Nelson, Acting Irrigation Project Manager, 220 Project Drive, St. Ignatius, MT 59865. Telephone: (406) 745-2661.
Fort Hall Irrigation Project | David Bollinger, Irrigation Project Manager, 36 Bannock Avenue, Fort Hall, ID 83203-0220. Telephone: (208) 238-1992.
Wapato Irrigation Project | Pete Plant, Project Administrator, 413 South Camas Avenue, Wapato, WA 98951-0220. Telephone: (509) 877-3155.
Rocky Mountain Region Contacts
Susan Messerly, Regional Director, Bureau of Indian Affairs, Rocky Mountain Regional Office, 2021 4th Avenue North, Billings, MT 59101. Telephone: (406) 247-7943.
Blackfeet Irrigation Project | Kenneth Bird, Superintendent, Greg Tatsey, Irrigation Project Manager, P.O. Box 880, Browning, MT 59417. Telephones: Superintendent (406) 338-7544; Irrigation Project Manager (406) 338-7519.
Crow Irrigation Project | Clifford Serawop, Superintendent, Jim Gappa, Acting Irrigation Project Manager (BIA), (Project O&M performed by Water Users Association), P.O. Box 69, Crow Agency, MT 59022. Telephones: Superintendent (406) 638-2672; Acting Irrigation Project Manager (406) 247-7998.
Fort Belknap Irrigation Project | Mark Azure, Superintendent, Jim Gappa, Acting Irrigation Project Manager (BIA), (Project O&M contracted to Tribes under PL 93-638),158 Tribal Way, Suite B, Harlem, MT 59526. Telephones: Superintendent (406) 353-2901; Irrigation Project Manager, Tribal Office (406) 353-8454.
Fort Peck Irrigation Project | Anna Eder, Superintendent, Jim Gappa, Acting Irrigation Project Manager (BIA), (Project O&M performed by Fort Peck Water Users Association), P.O. Box 637, Poplar, MT 59255. Telephones: Superintendent (406) 768-5312; Acting Irrigation Project Manager (406) 247-7998.
Wind River Irrigation Project | Leslie Shakespeare, Superintendent, Jim Gappa, Acting Irrigation Project Manager (BIA), (Project O&M for Little Wind, Johnstown, and Lefthand Units contracted to Tribes under PL 93-638; Little Wind-Ray and Upper Wind Units O&M performed by Ray Canal, A Canal, and Crowheart Water Users Associations), P.O. Box 158, Fort Washakie, WY 82514. Telephones: Superintendent (307) 332-7810; Acting Irrigation Project Manager (406) 247-7998.
Southwest Region Contacts
Patricia L. Mattingly, Regional Director, Bureau of Indian Affairs, Southwest Regional Office, 1001 Indian School Road NW, Albuquerque, NM 87104. Telephone: (505) 563-3100.
Pine River Irrigation Project | Priscilla Bancroft, Superintendent, Vickie Begay, Irrigation Project Manager, P.O. Box 315, Ignacio, CO 81137-0315. Telephones: Superintendent (970) 563-4511; Irrigation Project Manager (970) 563-9484.
Western Region Contacts
Jessie Durham, Acting Regional Director, Bureau of Indian Affairs, Western Regional Office, 2600 North Central Avenue, 4th Floor Mailroom, Phoenix, AZ 85004. Telephone: (602) 379-6600.
Colorado River Irrigation Project | Davetta Ameelyenah, Superintendent, Gary Colvin, Irrigation Project Manager, 12124 1st Avenue, Parker, AZ 85344. Telephones: Superintendent (928) 669-7111; (928) 662-4392 Irrigation Project Manager.
Duck Valley Irrigation Project | Joseph McDade, Superintendent, (Project O&M compacted to Shoshone-Paiute Tribes under PL 93-638), 2719 Argent Avenue, Suite 4, Gateway Plaza, Elko, NV 89801. Telephones: Superintendent (775) 738-5165; Tribal Office (208) 759-3100.
Yuma Project, Indian Unit | Denni Shields, Superintendent, (Bureau of Reclamation (BOR) owns the Project and is responsible for O&M), 256 South Second Avenue, Suite D, Yuma, AZ 85364. Telephones: Superintendent (928) 782-1202; BOR Area Office Manager (928) 343-8100.
San Carlos Irrigation Project (Indian Works and Joint Works) | Ferris Begay, Project Manager (BIA), Clarence Begay, Supervisory Civil Engineer (BIA), (Portions of Indian Works O&M compacted to Gila River Indian Community under PL 93-638), 13805 North Arizona Boulevard, Coolidge, AZ 85128. Telephones: Project Manager (520) 723-6225; Supervisory Civil Engineer (520) 723-6203; Gila River Indian Irrigation & Drainage District (520) 562-6720.
Uintah Irrigation Project | Antonio Pingree, Superintendent, Ken Asay, Irrigation System Manager (BIA), (Project O&M performed by Uintah Indian Irrigation Project Operation and Maintenance Company), P.O. Box 130, Fort Duchesne, UT 84026. Telephones: Superintendent (435) 722-4300; Irrigation System Manager (435) 722-4344; Uintah Indian Irrigation Operation and Maintenance Company (435) 724-5200.
Walker River Irrigation Project | Thomas Hemstreet, Acting Superintendent, 311 East Washington Street, Carson City, NV 89701. Telephone: (775) 887-3501.

What irrigation assessments or charges are proposed for adjustment by this notice?

The rate table below contains final CY 2023 rates for irrigation projects where we recover costs of administering, operating, maintaining, and rehabilitating them. The table also contains proposed CY 2024 rates for all irrigation projects. An asterisk immediately following the rate category notes irrigation projects where rates are proposed for adjustment.

Project name | Rate category | Final 2023 rate | Proposed 2024 rate
Northwest Region Rate Table
Flathead Irrigation Project | Basic per acre—A * | $35.50 | $39.00
| Basic per acre—B * | 17.75 | 19.50
| Minimum Charge per tract | 75.00 | 75.00
Fort Hall Irrigation Project | Basic per acre * | 64.50 | 65.50
| Minimum Charge per tract | 41.00 | 41.00
Fort Hall Irrigation Project—Minor Units | Basic per acre | 45.00 | 45.00
| Minimum Charge per tract | 41.00 | 41.00
Fort Hall Irrigation Project—Michaud Unit | Basic per acre * | 73.50 | 75.00
| Pressure per acre * | 114.00 | 116.50
| Minimum Charge per tract | 41.00 | 41.00
| Minimum Charge per bill * | 25.00 | 28.00
Wapato Irrigation Project—Toppenish/Simcoe Units | Basic per acre * | 25.00 | 28.00
Wapato Irrigation Project—Ahtanum Units | Minimum Charge per bill * | 30.00 | 35.00
| Basic per acre * | 30.00 | 35.00
Wapato Irrigation Project—Satus Unit | Minimum Charge per bill * | 79.00 | 100.00
| “A” Basic per acre * | 79.00 | 86.00
| “B” Basic per acre * | 85.00 | 92.00
Wapato Irrigation Project—Additional Works | Minimum Charge per bill * | 80.00 | 100.00
| Basic per acre * | 80.00 | 87.00
Wapato Irrigation Project—Water Rental | Minimum Charge per bill * | 90.00 | 100.00
| Basic per acre * | 90.00 | 100.00
Rocky Mountain Region Rate Table
Blackfeet Irrigation Project | Basic-per acre * | 20.50 | 21.50
Crow Irrigation Project—Willow Creek O&M (includes Agency, Lodge Grass #1, Lodge Grass #2, Reno, Upper Little Horn, and Forty Mile Units) | Basic-per acre * | 29.00 | 30.00
Crow Irrigation Project—All Others (includes Bighorn, Soap Creek, and Pryor Units) | Basic-per acre * | 29.00 | 30.00
Crow Irrigation Project—Two Leggins Unit | Basic-per acre * | 14.00 | 15.00
Crow Irrigation Two Leggins Drainage District | Basic-per acre * | 2.00 | 3.00
Fort Belknap Irrigation Project | Basic-per acre * | 19.00 | 20.00
Fort Peck Irrigation Project | Basic-per acre * | 28.00 | 29.00
Wind River Irrigation Project—Units 2, 3 and 4 | Basic-per acre * | 25.00 | 26.00
Wind River Irrigation Project—Unit 6 | Basic-per acre * | 22.00 | 23.00
Wind River Irrigation Project—LeClair District (See Note #1) | Basic-per acre | 47.00 | 47.00
Wind River Irrigation Project—Crow Heart Unit | Basic-per acre | 16.50 | 16.50
Wind River Irrigation Project—A Canal Unit | Basic-per acre | 16.50 | 16.50
Wind River Irrigation Project—Riverton Valley Irrigation District (See Note #1) | Basic-per acre | 30.65 | 30.65
Southwest Region Rate Table
Pine River Irrigation Project | Minimum Charge per tract | 75.00 | 75.00
| Basic-per acre * | 23.00 | 23.50
Western Region Rate Table
Colorado River Irrigation Project | Basic per acre up to 5.75 acre-feet | 64.00 | 64.00
| Excess Water per acre-foot over 5.75 acre-feet | 18.00 | 18.00
Duck Valley Irrigation Project | Basic per acre | 5.30 | 5.30
Yuma Project, Indian Unit (See Note #2) | Basic per acre up to 5.0 acre-feet | 161.00 | (+)
| Excess Water per acre-foot over 5.0 acre-feet | 30.00 | (+)
| Basic per acre up to 5.0 acre-feet (Ranch 5) | 161.00 | (+)

Project name | Rate category |  | Final 2023 rate | Proposed 2024 rate
San Carlos Irrigation Project (Joint Works) (See Note #3) | Basic per acre |  | $26.00 | $26.00.
| Proposed 2024 Construction Water Rate Schedule:
|  | Off Project Construction | On Project Construction—Gravity Water | On Project Construction—Pump Water.
| Administrative Fee | $300.00 | $300.00 | $300.00.
| Usage Fee | $250.00 per month | No Fee | $100.00 per acre foot.
| Excess Water Rate † | $5.00 per 1,000 gal | No Charge | No Charge.

Project name | Rate category | Final 2023 rate | Proposed 2024 rate
San Carlos Irrigation Project (Indian Works) (See Note #4) | Basic per acre * | $90.50 | $99.62
Uintah Irrigation Project | Basic per acre | 23.00 | 23.00
| Minimum Bill | 25.00 | 25.00
Walker River Irrigation Project | Basic per acre | 31.00 | 31.00
* Notes irrigation projects where rates are adjusted.
+ These rates have not yet been determined.
† The excess water rate applies to all water used in excess of 50,000 gallons in any one month.
Note #1: O&M rates for LeClair and Riverton Valley Irrigation Districts apply to Trust lands that are serviced by each irrigation district. The annual O&M rates are based on budgets submitted by LeClair and Riverton Valley Irrigation Districts, respectively.
Note #2: The O&M rate for the Yuma Project, Indian Unit has two components. The first component of the O&M rate is established by the Bureau of Reclamation (BOR), the owner and operator of the Project. BOR's rate, which is based upon the annual budget submitted by BOR is $157.00 for 2023 but has not been established for 2024. The second component of the O&M rate is established by BIA to cover administrative costs, which includes billing and collections for the Project. The final 2023 BIA rate component is $4.00 per acre. The proposed 2024 BIA rate component is $4.00 per acre.
Note #3: The Construction Water Rate Schedule identifies fees assessed for use of irrigation water for non-irrigation purposes.
Note #4: The O&M rate for the San Carlos Irrigation Project—Indian Works has three components. The first component is established by BIA San Carlos Irrigation Project—Indian Works, the owner and operator of the Project; the final 2023 rate is $56.50 per acre, and proposed 2024 rate is $55.85 per acre. The second component is established by BIA San Carlos Irrigation Project—Joint Works; the final 2023 rate is $26.00 per acre, and proposed 2024 rate is $26.00 per acre. The third component is established by the San Carlos Irrigation Project Joint Control Board (comprised of representatives from the Gila River Indian Community and the San Carlos Irrigation and Drainage District); the 2023 rate is $8.00 per acre (revised from $16.94 per acre), and 2024 rate is $17.77 per acre.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

The proposed rate adjustments are not a significant energy action under the definition in Executive Order 13211. A Statement of Energy Effects is not required.

Regulatory Planning and Review (Executive Order 12866)

These proposed rate adjustments are not a significant regulatory action and do not need to be reviewed by the Office of Management and Budget under Executive Order 12866.

Regulatory Flexibility Act

These proposed rate adjustments are not a rule for the purposes of the Regulatory Flexibility Act because they establish “a rule of particular applicability relating to rates.”

5 U.S.C. 601(2).

Unfunded Mandates Reform Act of 1995

These proposed rate adjustments do not impose an unfunded mandate on state, local, or Tribal governments in the aggregate, or on the private sector, of more than $130 million per year. They do not have a significant or unique effect on State, local, or Tribal governments or the private sector. Therefore, the Department is not required to prepare a statement containing the information required by the Unfunded Mandates Reform Act (2 U.S.C. 1531 et seq.).

Takings (Executive Order 12630)

These proposed rate adjustments do not effect a taking of private property or otherwise have “takings” implications under Executive Order 12630. The proposed rate adjustments do not deprive the public, State, or local governments of rights or property.

Federalism (Executive Order 13132)

Under the criteria in section 1 of Executive Order 13132, these proposed rate adjustments do not have sufficient federalism implications to warrant the preparation of a federalism summary impact statement because they will not affect the States, the relationship between the national government and the States, or the distribution of power and responsibilities among the various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These proposed rate adjustments do not affect the collections of information which have been approved by the Office of Information and Regulatory Affairs, Office of Management and Budget (OMB) under the Paperwork Reduction Act of 1995. The OMB Control Number is 1076-0141 and expires January 31, 2023.

National Environmental Policy Act

The Department has determined that these proposed rate adjustments do not constitute a major Federal action significantly affecting the quality of the human environment and that no detailed statement is required under the National Environmental Policy Act of 1969, 42 U.S.C. 4321-4370(d)), pursuant to 43 CFR 46.210(i). In addition, the proposed rate adjustments do not present any of the 12 extraordinary circumstances listed at 43 CFR 46.215.

Bryan Newland,
Assistant Secretary—Indian Affairs.

[FR Doc. 2023-00863 Filed 1-17-23; 8:45 am]

BILLING CODE 4337-15-P